DEPARTMENT OF HOMELAND SECURITY

Federal Emergency Management Agency

[FEMA-1668-DR]

Louisiana; Amendment No. 1 to Notice of a Major Disaster Declaration

AGENCY: Federal Emergency Management Agency, DHS.

ACTION: Notice.

SUMMARY: This notice amends the notice of a major disaster declaration for the State of Louisiana (FEMA-1668-DR), dated November 2, 2006, and related determinations.

EFFECTIVE DATE: November 17, 2006.

FOR FURTHER INFORMATION CONTACT: Magda Ruiz, Recovery Division, Federal Emergency Management Agency, Washington, DC 20472, (202) 646-2705.

SUPPLEMENTARY INFORMATION: The notice of a major disaster declaration for the State of Louisiana is hereby amended to include the following areas among those areas determined to have been adversely affected by the catastrophe declared a major disaster by the President in his declaration of November 2, 2006:

The parishes of Allen, Calcasieu, Jefferson Davis, St. Helena, and St. Landry for Individual Assistance.

The parish of Beauregard for Individual Assistance (already designated for Public Assistance).

The parishes of Calcasieu, Evangeline, Jefferson Davis, and St. Helena for Public Assistance, including direct Federal assistance, if warranted as determined by FEMA.

The parishes of Acadia, Allen, Evangeline, Jefferson Davis, St. Helena, and St. Landry in the State of Louisiana are eligible to apply for assistance under the Hazard Mitigation Grant Program.

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individuals and Households Housing; 97.049, Individuals and Households Disaster Housing Operations; 97.050 Individuals and Households Program—Other Needs, 97.036, Public Assistance Grants; 97.039, Hazard Mitigation Grant Program.)

R. David Paulison,
Under Secretary for Federal Emergency Management and Director of FEMA.

[FR Doc. E6-19969 Filed 11-24-06; 8:45 am]

BILLING CODE 9110-10-P